DEPARTMENT OF JUSTICE

Notice of Lodging of Proposed Consent Decree Under the Clean Air Act

On October 15, 2020, the Department of Justice lodged a proposed Consent Decree with the United States District Court for the Western District of Wisconsin in the lawsuit entitled United States v. Hydrite Chemical Co., Case No. 3:20-cv-00950.

The United States filed a Complaint in this lawsuit seeking civil penalties and injunctive relief from Defendant Hydrite Chemical Co. (“Hydrite”) for alleged violations of the Clean Air Act, 42 U.S.C. 7401-7671q, at Hydrite's chemical blending and manufacturing facility in Cottage Grove, Wisconsin (the “Facility”). The United States' Complaint alleges that Hydrite has violated statutory and regulatory requirements limiting hazardous air pollutant emissions from the Facility, as well as corresponding requirements in Hydrite's Clean Air Act permits for the Facility.

When the Complaint was filed, the United States also lodged a proposed Consent Decree that would settle the claims asserted in the Complaint. Among other things, the proposed Consent Decree would require that Hydrite implement appropriate injunctive relief to control air pollutant emissions from the Facility, including improving its practices for the detection and control of fugitive emissions from tanks and equipment that contain chemicals classified as hazardous air pollutants. The Consent Decree also would require Hydrite to pay a $480,503 civil penalty to the United States.

The publication of this notice opens a period for public comment on the proposed Consent Decree. Comments should be addressed to the Assistant Attorney General, Environment and Natural Resources Division, and should refer to United States v. Hydrite Chemical Co., D.J. Ref. No. 90-5-2-1-12229. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $17.25 (25 cents per page reproduction cost) payable to the United States Treasury.

Patricia A. McKenna,
Assistant Section Chief, Environmental Enforcement Section, Environment and Natural Resources Division.

[FR Doc. 2020-23251 Filed 10-20-20; 8:45 am]

BILLING CODE 4410-15-P